SMALL BUSINESS ADMINISTRATION

[Disaster Declaration #12572 and #12573]

Tennessee Disaster Number TN-00053

AGENCY: U.S. Small Business Administration.

ACTION: Amendment 3.

SUMMARY: This is an amendment of the Presidential declaration of a major disaster for the State of Tennessee (FEMA-1979-DR), dated 05/09/2011.

Incident: Severe Storms, Tornadoes, Straight-line, Winds, and Flooding.

Incident Period: 04/19/2011 and continuing through 06/07/2011.

Effective Date: 06/07/2011.

Physical Loan Application Deadline Date: 07/08/2011.

EIDL Loan Application Deadline Date: 02/09/2012.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street, SW., Suite 6050, Washington, DC 20416

SUPPLEMENTARY INFORMATION: The notice of the President's major disaster declaration for the State of Tennessee, dated 05/09/2011 is hereby amended to establish the incident period for this disaster as beginning 04/19/2011 and continuing through 06/07/2011.

All other information in the original declaration remains unchanged.

(Catalog of Federal Domestic Assistance Numbers 59002 and 59008)

Jane M.D. Pease,
Acting Associate Administrator for Disaster Assistance.

[FR Doc. 2011-14917 Filed 6-15-11; 8:45 am]

BILLING CODE 8025-01-P